DEPARTMENT OF VETERANS AFFAIRS

[OMB Control No. 2900-0518]

Agency Information Collection (Income Verification) Activity Under OMB Review

AGENCY: Veterans Benefits Administration, Department of Veterans Affairs.

ACTION: Notice.

SUMMARY: In compliance with the Paperwork Reduction Act (PRA) of 1995 (44 U.S.C. 3501-21), this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before February 19, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0518” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0518” in any correspondence.

SUPPLEMENTARY INFORMATION: Title: Income Verification (VA Form 21-0161a).

OMB Control Number: 2900-0518.

Type of Review: Revision of a currently approved collection.

Abstract: VA Form 21-0161a is used to gather information to determine entitlement to income-dependent benefits. The VA compensation and pension programs require the accurate reporting of income by those who are in receipt of income-dependent benefits. This form solicits information from employers of beneficiaries who have been identified as having inaccurately reported their income to VA.

An agency may not conduct or sponsor, and a person is not required to respond to a collection of information unless it displays a currently valid OMB control number. The Federal Register Notice with a 60-day comment period soliciting comments on this collection of information was published at 80 FR 203 on October 21, 2015.

Affected Public: Individuals or Households.

Estimated Annual Burden: 15,000.

Estimated Average Burden per Respondent: 30 minutes.

Frequency of Response: One time.

Estimated Number of Respondents: 30,000.

By direction of the Secretary.
Kathleen M. Manwell,
Program Analyst, VA Privacy Service, Office of Privacy and Records Management, Department of Veterans Affairs.

[FR Doc. 2016-00979 Filed 1-19-16; 8:45 am]

BILLING CODE 8320-01-P